DEPARTMENT OF COMMERCE

Foreign-Trade Zones Board

[B-80-2012]

Foreign-Trade Zone 163—Ponce, Puerto Rico; Authorization of Production Activity; Zimmer Manufacturing BV (Medical Devices); Ponce, Puerto Rico

On November 1, 2012, CODEZOL, C.D., grantee of FTZ 163, submitted a notification of proposed production activity to the Foreign-Trade Zones (FTZ) Board on behalf of Zimmer Manufacturing BV, within Subzone 163A, in Ponce, Puerto Rico.

The notification was processed in accordance with the regulations of the FTZ Board (15 CFR part 400), including notice in the Federal Register inviting public comment (78 FR 68103, 11/15/2012). The FTZ Board has determined that no further review of the activity is warranted at this time. The production activity described in the notification is authorized, subject to the FTZ Act and the Board's regulations, including Section 400.14.

Dated: March 1, 2013.
Andrew McGilvray,
Executive Secretary.

[FR Doc. 2013-05353 Filed 3-7-13; 8:45 am]

BILLING CODE P